NUCLEAR REGULATORY COMMISSION

Procedures for Providing Security Support for NRC Public Meetings/Hearings

The Nuclear Regulatory Commission (NRC) is revising its procedures for providing security support for all public NRC forums. This revision will provide a single set of procedures that will ensure consistency and uniformity in providing security support for these meetings. These procedures will be used by NRC headquarters and regional staff and are applicable to public hearings/meetings held at NRC headquarters buildings, other NRC space in the Washington, D.C. area, and/or regional locations to include space leased for the occasion. This Federal Register notice supersedes the previous Federal Register notice, entitled “Security Support for NRC Meetings/Hearings,” that was published on November 1, 1991 (56 FR 19451).

In order to balance the orderly conduct of government business with the right of free speech, the following procedures regarding attendance at NRC public meetings and hearings have been established:

Visitors (other than properly identified Congressional, press, and government personnel) may be subject to personnel screening, such as passing through metal detectors and inspecting visitors' briefcases, packages, etc.

Signs, banners, posters and displays will be prohibited from all NRC adjudicatory proceedings (Commission and Atomic Safety and Licensing Board Panel hearings) because they are disruptive to the conduct of the adjudicatory process. Signs, banners, posters and displays not larger than 18″×18″ will be permitted at all other NRC proceedings, but cannot be waved, held over one's head or generally moved about while in the meeting room. Signs, banners, posters and displays larger than 18″×18″ will not be permitted in the meeting room because they are disruptive both to the participants and the audience. Additionally, signs, banners, posters and displays affixed to any sticks, poles or other similar devices will not be permitted in the meeting room.

The presiding official will note, on the record, any disruptive behavior and warn the person to cease the behavior. If the person does not cease the behavior, the presiding official may call a brief recess to restore order and/or ask one of the security personnel on hand to remove the person.

For Further Information Contact: Calvin O. Byrd, Chief, Physical Security Branch, Division of Facilities and Security, Office of Administration, U. S. Nuclear Regulatory Commission, Washington, DC 20555-0001, telephone: 301-415-7402.

Dated at Rockville, Maryland, this 6th day of June 2001.
For the Nuclear Regulatory Commission.
Thomas O. Martin,
Director, Division of Facilities and Security, Office of Administration.

[FR Doc. 01-14752 Filed 6-11-01; 8:45 am]

BILLING CODE 7590-01-P